ENVIRONMENTAL PROTECTION AGENCY

[IN 150-1; FRL-7543-5]

Notice of Final Determination for Alcoa-Warrick Power Plant in Newburgh, Indiana

AGENCY: Environmental Protection Agency (EPA).

ACTION: Notice of final action.

SUMMARY: This notice announces that on March 5, 2003, the Environmental Appeals Board (EAB) of the EPA dismissed a petition for review of a permit issued for the Alcoa-Warrick Power Plant (Alcoa) by the Indiana Department of Environmental Management (IDEM). The EAB dismissed the petition because it determined that it does not have jurisdiction to review permits that are issued solely under a state's federally approved Title V permit program.

DATES: The effective date for the EAB's decision is March 5, 2003. Judicial review of this permit decision, to the extent it is available pursuant to section 307(b)(1) of the Clean Air Act, 42 U.S.C. 7607(b)(1), may be sought by filing a petition for review in the United States Court of Appeals for the Seventh Circuit within 60 days of August 13, 2003.

ADDRESSES: The documents relevant to the above action are available for public inspection during normal business hours at the following address: EPA, Region 5, 77 West Jackson Boulevard (AR-18J), Chicago, Illinois 60604. To arrange viewing of these documents, call Sam Portanova at (312) 886-3189.

FOR FURTHER INFORMATION CONTACT: Sam Portanova, EPA, Region 5, 77 W. Jackson Boulevard (AR-18J), Chicago, Illinois 60604. Anyone who wishes to review the EAB decision can obtain it at http://www.epa.gov/eab/orders/alcoa.pdf.

SUPPLEMENTARY INFORMATION: This supplemental information is organized as follows:

A. What Action Is EPA Taking?

B. What Is The Background Information?

C. What did EPA Determine?

A. What Action Is EPA Taking?

We are notifying the public of a final decision by EPA's EAB on a permit issued by IDEM.

B. What Is the Background Information?

On November 6, 2002, IDEM issued a Part 70 Significant Source Modification permit (permit number 173-16275-00002) to Alcoa to modify three pulverized dry bottom wall-fired boilers by installing low NOX burners. The permit allows the boilers to fire bituminous coal or natural gas and requires the use of low NOX burners to control nitrogen oxide (NOX) emissions. IDEM determined that this project qualified as a pollution control project and was not subject to PSD.

Stephen A. Loeschner subsequently filed a petition for review of the permit with the EAB on December 10, 2002. Mr. Loeschner argued that IDEM improperly exempted this modification from PSD review by granting it a pollution control project exemption. He also argued that this permit should require carbon monoxide continuous emissions monitors.

In two previous rulings, Carlton, Inc. N. Shore Power Plant, 9 E.A.D. 690 (EAB 2001), and DPL Energy Montpelier Electric Generating Station, 9 E.A.D. 695 (EAB 2001), as in the Alcoa case, the petitioners challenged the state agency's decision to issue state minor source permits rather than federal PSD permits. In denying review in both of these permits, the EAB ruled that its jurisdiction is limited to federal PSD permits that are actually issued under the PSD program, and does not extend to a state's decision not to issue a PSD permit.

C. What Did the EAB Determine?

On March 5, 2003, the EAB dismissed the petition for review on the grounds that the Board lacks authority to review the Alcoa permit, which was issued solely under Indiana's federally approved Title V program and was not a federal PSD permit.

Dated: July 24, 2003.
Bharat Mathur,
Acting Regional Administrator, Region 5.

[FR Doc. 03-20526 Filed 8-12-03; 8:45 am]

BILLING CODE 6560-50-P